DEPARTMENT OF TRANSPORTATION

Federal Aviation Administration

14 CFR Part 39

[Docket No. 93-CE-37-AD]

RIN 2120-AA64

Airworthiness Directives; Raytheon Aircraft Company Beech Models C35, D35, E35, F35, G35, H35, J35, K35, M35, N35, P35, S35, V35, V35A, and V35B Airplanes

AGENCY: Federal Aviation Administration, DOT.

ACTION: Notice of proposed rulemaking (NPRM).

SUMMARY: This document proposes to revise Airworthiness Directive (AD) 94-20-04, which currently requires ruddervator inspections, modifications, and operating limitations on certain Raytheon Aircraft Company (Raytheon) Beech Models 35, 35R, A35, B35, C35, D35, E35, F35, G35, H35, J35, K35, M35, N35, P35, S35, V35, V35A, and V35B airplanes. This proposed AD is the result of information received from the field on the ability to accomplish and understand this existing AD. The proposed AD would condense and clarify the information presented in AD 94-20-04 and would remove the Beech Models 35, 35R, A35, and B35 airplanes from the applicability of AD 94-20-04. We are incorporating the actions applicable to the Beech Models 35, 35R, A35, and B35 airplanes into another proposed AD action. The actions specified by the proposed AD are intended to continue to prevent structural failure of the V-tail, which could result in loss of control of the airplane.

DATES: The Federal Aviation Administration (FAA) must receive any comments on this rule on or before May 25, 2001.

ADDRESSES: Submit comments in triplicate to FAA, Central Region, Office of the Regional Counsel, Attention: Rules Docket No. 93-CE-37-AD, 901 Locust, Room 506, Kansas City, Missouri 64106. Comments may be inspected at this location between 8 a.m. and 4 p.m., Monday through Friday, holidays excepted.

Service information that applies to the proposed AD may be obtained from the Raytheon Aircraft Company, PO Box 85, Wichita, Kansas 67201-0085; telephone: (800) 625-7043 or (316) 676-4556. This information also may be examined at the Rules Docket at the address above.

FOR FURTHER INFORMATION CONTACT: Mr. T.N. Baktha, Aerospace Engineer, FAA, Wichita Aircraft Certification Office, 1801 Airport Road, Mid-Continent Airport, Wichita, Kansas 67209; telephone: (316) 946-4155; facsimile: (316) 946-4407.

SUPPLEMENTARY INFORMATION:

Comments Invited

How do I comment on the proposed AD? The FAA invites comments on this proposed rule. You may submit whatever written data, views, or arguments you choose. You need to include the rule's docket number and submit your comments in triplicate to the address specified under the heading ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 93-CE-37-AD.” We will date stamp and mail the postcard back to you.

Discussion

Has FAA taken any action on the Raytheon airplane ruddervator system to this point? The following paragraphs describe AD's that FAA issued to address the V-tail structure on Raytheon Beech 35 series airplanes.

AD 94-20-04, Amendment 39-9032 (59 FR 49785, September 30, 1994), currently requires the following on certain Beech Models 35, 35R, A35, B35, C35, D35, E35, F35, G35, H35, J35, K35, M35, N35, P35, S35, V35, V35A, and V35B airplanes:

—Checking the ruddervator static balance and rebalancing the ruddervators when the balance is not in accordance with manufacturer's specifications or anytime the ruddervators are repaired or repainted;

—Repetitively inspecting the fuselage bulkheads for damage, and replacing any damaged parts;

—Installing stabilizer reinforcements for some airplane models, as applicable;

—Fabricating and installing airspeed limitation placards;

—Incorporating certain airspeed limitations into the airplane flight manual/pilot's operating handbook (POH/AFM);

—Inspecting the empennage, aft fuselage, and ruddervator control system for damage, and replacing or repairing any damaged parts; and

—Ensuring the accuracy of the airplane basic weight and balance information, and immediately correcting any discrepancies.

Accomplishment of these actions is required in accordance with the instructions to either Beech Kit No. 35-4016-3, 35-4016-5, 35-4016-7, or 35-4016-9, as applicable and as specified in Beech Service Bulletin (SB) No. 2188, dated May, 1987, and the applicable maintenance and shop manuals.

AD 98-13-02, Amendment 39-10590 (63 FR 31916, June 11, 1998), currently requires operating limitations in order to address ruddervator problems on Beech Models 35, A35, B35, and 35R airplanes.

What has happened since AD 94-20-04 and AD 98-13-02 to initiate this action? AD 94-20-04 contains minor errors and FAA receives periodic calls from the public for clarification.

In addition, Raytheon has issued Recommended Service Bulletin No. SB 27-3358, Issued: February, 2000, which includes procedures for inspecting the aft fuselage, ruddervator, and related systems for acceptable condition and rebalancing the ruddervators to new specifications (upper limit reduced from 19.8 to 18 inch-pounds (tail heavy)). Accomplishing these inspections would eliminate the need for the operating limitations of AD 98-13-02.

The FAA's Determination and Explanation of the Provisions of the Proposed AD

What has FAA decided? After examining the circumstances and reviewing all available information related to the incidents described above, we have determined that:

—The unsafe condition referenced in this document still exists or could develop on other Raytheon Beech Models C35, D35, E35, F35, G35, H35, J35, K35, M35, N35, P35, S35, V35, V35A, and V35B of the same type design;

—The actions of AD 94-20-04 should be condensed and clarified;

—The Beech Models 35, A35, B35, and 35R airplanes should be removed from the applicability of AD 94-20-04 and the actions of that AD for these airplanes should be combined with AD 98-13-02; and

—AD action should be taken in order to continue to prevent structural failure of the V-tail, which could result in loss of control of the airplane.

What would the proposed AD require? This proposed AD would revise AD 94-20-04, would condense and clarify the information presented in this AD, and would remove the Beech Models 35, 35R, A35, B35 airplanes from the Applicability of AD 94-20-04. We are proposing to incorporate the actions applicable to the Beech Models 35, 35R, A35, and B35 airplanes into another proposed AD action.

The operating limitations from AD 94-20-04 for the Beech Models C35, D35, E35, F35, G35, H35, J35, K35, M35, N35, P35, S35, V35, V35A, and V35B airplanes are not included in this proposed AD because the other actions retained from AD 94-20-04 make them unnecessary.

The repetititive inspections currently required by AD 94-20-04 for Beech Models 35, 35R, A35, and B35 airplanes will be incorporated into another proposed AD action, and will be accomplished in accordance with Raytheon Recommended Service Bulletin No. SB 27-3358, Issued: February, 2000.

Cost Impact

How many airplanes would the proposed AD impact? We estimate that the proposed AD affects 10,200 airplanes in the U.S. registry.

What would be the cost impact of the proposed AD on owners/operators of the affected airplanes? We estimate the following costs to accomplish the proposed initial inspections. These cost figures are exactly the same as what is currently required by AD 94-20-04. This proposed AD presents no new costs upon the public:

Labor cost | Parts cost | Total cost per airplane | Total cost on U.S. operators
40 workhours at $60 per hour=$2,400 | Not applicable | $2,400 per airplane | $24,480,000

The above figures are based only on the initial inspections and do not take into account the cost of repetitive inspections or adjustments, repairs, or replacements that would be necessary based on the results of the inspections. We have no way of determining the number of repetitive inspections each owner/operator of the affected airplanes would incur or what adjustments, repairs, or replacements may be necessary based on the results of the inspections.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 94-20-04, Amendment 39-9032 (59 FR 49785, September 30, 1994), and by adding a new AD to read as follows:

Raytheon Aircraft Company (Beech Aircraft Corporation formerly held Type Certificate (TC) No. A-777 and TC No. 3A15): Docket No. 93-CE-37-AD; Revises AD 94-20-04, Amendment 39-9032.

(a) What airplanes are affected by this AD? This AD affects the following airplanes that are certificated in any category:

(1) Beech Models C35, D35, E35, F35, G35, H35, J35, K35, M35, N35, and P35 airplanes, all serial numbers; and

(2) Beech Models S35, V35, V35A, and V35B airplanes, all serial numbers, that do not have the straight tail conversion modification incorporated in accordance with Supplemental Type Certificate (STC) SA2149CE.

Note 1: Beech Models 35, 35R, A35, B35 airplanes were included in the Applicability of AD 94-20-04. We have removed the Beech Models 35, 35R, A35, and B35 airplanes from the Applicability Section of this AD and incorporated the actions applicable to these airplanes into another AD action.

(b) Who must comply with this AD? Anyone who wishes to operate any of the above airplanes must comply with this AD.

(c) What problem does this AD address? The actions specified by this AD are intended to prevent structural failure of the V-tail, which could result in loss of control of the airplane.

(d) What actions must I accomplish to address this problem on the affected airplanes? To address this problem on the affected airplanes, accomplish the following:

Actions | Compliance | Procedures
(1) Verify that the ruddervator balance is within the manufacturer's specified limits as defined in the applicable shop or maintenance manual and balance the ruddervator control surfaces, as necessary | Within the next 100 hours TIS after November 28, 1994 (the effective date of AED 94-20-04), and thereafter prior to further flight after the ruddervators are repaired or repainted (even if stripes are added or paint is touched up) | Verify in accordance with the applicable shop or maintenance manual. Balance the ruddervator control surfaces in accordance with Section 3 of Beech Shop Manual 35-590096B19, or subsequent revisions.
(2) Visually inspect the empennage, aft fuselage, and ruddervator control system for damage. Repair or replace any damaged parts and set the elevator controls, rudder and tab system controls, cable tensions, and rigging | Inspect within the next 100 hours TIS after November 28, 1994 (the effective date of AD 94-20-04), and thereafter at intervals not to exceed 100 hours TIS. Accomplish any repairs, replacements, and adjustments prior to further flight after the applicable inspection | In accordance with the procedures and as specified in the instructions to Beech Kit 35-4017-1 “Kit Information Empennage and Aft Fuselage Inspection”, as specified in Beech Service Bulletin No. 2188, dated May, 1987.
(3) Remove all external stabilizer reinforcements installed during incorporation of either Supplemental Type Certificate (STC) SA845GL, STC SA846GL, STC SA1650CE, STC SA2286NM, or STC SA2287NM, as applicable | Within the next 100 hours TIS after November 28, 1994 (the effective date of AD 94-20-04), unless already accomplished | In accordance with the applicable maintenance information.
(i) Seal or fill any residual holes with appropriate size rivets |  |
(ii) The internal stub spar incorporated through STC SA1649CE and STC SA1650CE may be retained |  |
(iii) The external angles incorporated through STC SA1649CE may also be retained by properly trimming the leading edges section to permit installation of the stabilizer reinforcement referenced in paragraph (d)(4)(i) of this AD
(iv) For the Beech Models S35, V35, V35A, and V35B airplanes, you may retain and use the tail-safe external angles that were installed in accordance with STC SA1649CE instead of the stabilizer reinforcement specified in paragraph (d)(4)(i) of this AD
(4) Accomplish the following: (i) Install stabilizer reinforcements; (ii) Set the elevator nosedown trim; and (iii) Replace the ruddervator tab control cables with larger diameter cables. | Within the next 100 hours TIS after November 28, 1994 (the effective date of AD 94-20-04), unless already accomplished | In accordance with the instructions to RAC Kit No. 35-04016-3, 35-4016-5, 35-4016-7, or 35-4016-9, as applicable and as specified in Beech SB No. 2188, dated May, 1987.
(5) Verify the accuracy of the airplane basis weight and balance information and correct any discrepancies | Accomplish the airplane basic weight and balance accuracy verification within the next 100 hours TIS after November 28, 1994 (the effective date of AD 94-20-04), unless already accomplished. Correct any discrepancies prior to further flight after the verification | Use the procedures contained in the Appendix to this AD.

(e) Can I comply with this AD in any other way?

(1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) Alternative methods of compliance approved in accordance with AD 94-20-04, which is revised by this AD, are approved as alternative methods of compliance with this AD.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. T.N. Baktha, Aerospace Engineer, FAA, Wichita Aircraft Certification Office, 1801 Airport Road, Mid-Continent Airport, Wichita, Kansas 67209; telephone: (316) 946-4155; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from the Raytheon Aircraft Company, PO Box 85, Wichita, Kansas 67201-0085. You may examine these documents at FAA, Central Region, Office of the Regional Counsel, 901 Locust, Room 506, Kansas City, Missouri 64106.

(i) Does this AD action affect any existing AD actions? This amendment revises AD 94-20-04, Amendment 39-9032.

Appendix to Docket No. 93-CE-37-AD

Weight and Balance Accuracy Method No. 1:

1. Review existing weight and balance documentation to assure completeness and accuracy of the documentation from the most recent FAA-approved weighing or from factory delivery to date of compliance with this AD.

2. Compare the actual configuration of the airplane to the configuration described in the weight and balance documentation; and

3. If equipment additions or deletions are not reflected in the documentation or if modification affecting the location of the center of gravity (e.g., paint or structural repairs) are not documented, determine the accuracy of the airplane weight and balance data in accordance with Method No. 2.

Weight and Balance Information Accuracy Method No. 2:

1. Determine the basic empty weight and center of gravity (CG) of the empty airplane using the Weighing Instructions in the Weight and Balance section of the airplane flight manual/pilot's operating handbook (AFM/POH).

2. Record the results in the airplane records, and use these new values as the basis for computing the weight and CG information as specified in the Weight and Balances section of the AFM/POH.

Issued in Kansas City, Missouri, on March 19, 2001.
Michael Gallagher,
Manager, Small Airplane Directorate, Aircraft Certification Service.

[FR Doc. 01-7334 Filed 3-23-01; 8:45 am]

BILLING CODE 4910-13-U